DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Joint Meeting, Subcommittee on Standards and Security, and Workgroup on Computer-based Patient Records.

Time and Date: 9 a.m. to 5 p.m., June 1, 2000; 9 a.m. to 1 p.m., June 2, 2000.

Place: Room 505A, Hubert H. Humphrey Building, 200 Independence Avenue, SW, Washington, D.C. 20201.

Status: Open.

Purpose: The Subcommittee and Working Group will discuss its report to the HHS Secretary on standards for patient medical records information as required by the Health Insurance Portability and Accountability Act of 1996 (HIPAA). The Subcommittee will finalize the report and approve it for transmission to the full NCVHS. The Subcommittee will also discuss plans for upcoming hearings.

Notice: In the interest of security, the Department has instituted stringent procedures for entrance to the Hubert H. Humphrey building by non-government employees. Thus, persons without a government identification card will need to have the guard call for an escort to the meeting.

Contact Person for More Information: Substantive program information as well as summaries of meetings and a roster of committee members may be obtained from J. Michael Fitzmaurice, Ph.D., Senior Science Advisor for Information Technology, Agency for Health Care Research and Quality, 2101 East Jefferson Street #600, Rockville, MD 20852, phone: (301) 594-3938; or Marjorie S. Greenberg, Executive Secretary, NCVHS, National Center for Health Statistics, Centers for Disease Control and Prevention, Room 1100, Presidential Building, 6525 Belcrest Road, Hyattsville, Maryland 20782, telephone (301) 458-4245. Information also is available on the HCVHS home page of the HHS website: http://www.ncvhs.hhs.gov/ where an agenda for the meeting will be posted when available.

Dated: May 9, 2000.
James Scanlon,
Director, Division of Data Policy, Office of the Assistant Secretary for Planning and Evaluation.

[FR Doc. 00-12182 Filed 5-5-00; 8:45 am]

BILLING CODE 4151-05-M